NUCLEAR REGULATORY COMMISSION

[Docket No. 40-3453-MLA-3; ASLBP No. 99-761-04-MLA]

Moab Mill Reclamation Trust; Notice of Reconstitution

Pursuant to the authority contained in 10 CFR 2.721 and 2.1207, the Special Assistant in the captioned 10 CFR part 2, subpart L proceeding is hereby replaced by appointing Administrative Judge Richard F. Cole in place of Administrative Judge Frederick J. Shon.

All correspondence, documents, and other material shall be filed with the Presiding Officer in accordance with 10 CFR 2.1203. The address of the new Special Assistant is: Richard F. Cole, Atomic Safety and Licensing Board Panel, U.S. Nuclear Regulatory Commission, Washington, DC 20555-0001.

Issued at Rockville, Maryland, this 30th day of August 2000.
G. Paul Bollwerk III,
Chief Administrative Judge, Atomic Safety and Licensing Board Panel.

[FR Doc. 00-22783 Filed 9-5-00; 8:45 am]

BILLING CODE 7590-01-P